FEDERAL COMMUNICATIONS COMMISSION

47 CFR Part 73

[DA 05-44 MB Docket No. 03-231, RM-10818]

Radio Broadcasting Services; Centre Hall, Huntingdon, Mount Union, PA

AGENCY: Federal Communications Commission.

ACTION: Final rule.

SUMMARY: The Audio Division, at the request of Megahertz Licenses, LLC, licensee of FM Stations WXMJ, Channel 258A, Mount Union, Pennsylvania, and WLLY, Channel 292A, Huntingdon, Pennsylvania, deletes Channel 292A at Huntingdon, Pennsylvania, and Channel 258A at Mount Union, Pennsylvania, from the FM Table of Allotments, allots Channel 258A at Centre Hall, Pennsylvania, as the community's first local FM service, allots Channel 292A at Mount Union, Pennsylvania, modifies the license of FM Stations WXMJ to specify operation on Channel 258A at Centre Hall, Pennsylvania, and modifies the License of FM Station WLLY to specify operation Channel 292A at Mount Union. Channel 258A can be allotted to Centre Hall, Pennsylvania, in compliance with the Commission's minimum distance separation requirements without site restriction at center city reference coordinates. The coordinates for Channel 258A at Centre Hall, Pennsylvania, are 40-50-50 North Latitude and 77-51-41 West Longitude. Channel 292A can be allotted to Mount Union, Pennsylvania with a site restriction of 14.5 km (9.0 miles) south of Mount Union. The coordinates for Channel 292A at Mount Union, Pennsylvania, are 40-15-18 North Latitude and 77-51-41 West Longitude. Centre Hall, Mount Union, and Huntingdon, Pennsylvania, all are located within 320 kilometers (199 miles) of the Canadian border, and therefore Canadian concurrence in the allotment changes will be required. Although concurrence has been requested for these allotment changes, notification has not been received. If a construction permit is granted for Centre Hall or Mount Union prior to the receipt of formal concurrence in the corresponding channel allotment by the Canadian government, the construction permit will include the following condition. “Operation with the facilities specified for [Centre Hall or Mount Union] herein is subject to modification, suspension, or termination without right to hearing, if found by the Commission to be necessary in order to conform to the USA-Canada FM Broadcast Agreement.”

DATES: Effective February 25, 2005.

FOR FURTHER INFORMATION CONTACT: Deborah Dupont, Media Bureau, (202) 418-2180.

SUPPLEMENTARY INFORMATION: This is a synopsis of the Commission's Report and Order, MB Docket No. 03-231, adopted January 5, 2005, and released January 10, 2005. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC 20554, (800) 378-3160, or via the company's Web site, http://www.bcpiweb.com. The Commission will send a copy of this Report and Order in a report to be sent to Congress and the General Accountability Office pursuant to the Congressional Review Act, see U.S.C. 801(a)(1)(A).

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

1. Section 73.202(b), the Table of FM Allotments under Pennsylvania, is amended by adding Centre Hall, Channel 258A, by removing Channel 292A at Huntingdon, by removing Channel 258A and adding Channel 292A at Mount Union.

Federal Communications Commission.
John A. Karousos,
Assistant Chief, Audio Division, Media Bureau.

[FR Doc. 05-1606 Filed 1-27-05; 8:45 am]

BILLING CODE 6712-01-P